DEPARTMENT OF HOMELAND SECURITY

Coast Guard

33 CFR Part 165

[Docket No. USCG-2016-0479]

Safety Zones; Superior Man Triathlon, Duluth, MN

AGENCY: Coast Guard, DHS.

ACTION: Notice of enforcement of regulation.

SUMMARY: The Coast Guard will enforce the Safety Zone for the Superior Man Triathlon in Duluth, MN August 28, 2016. This action is necessary to protect the participants during the event. During the enforcement period, entry into, transiting, or anchoring within the safety zone is prohibited unless authorized by the Captain of the Port Duluth or his designated on-scene representative.

DATES: The regulations in 33 CFR 165.943(b) will be enforced from 5:30 a.m. through 9:30 a.m. on August 28, 2016.

FOR FURTHER INFORMATION CONTACT: If you have questions about this notice of enforcement, call or email Lieutenant Junior Grade John Mack, Waterways Management Division, Coast Guard; telephone (218) 725-3818, email John.V.Mack@uscg.mil.

SUPPLEMENTARY INFORMATION: The Coast Guard will enforce a safety zone for the annual Superior Man Triathlon in Duluth, MN in 33 CFR 165.943(a)(8) from 5:30 a.m. until 9:30 a.m. August 28, 2016. This safety zone will include all U.S. navigable waters of the Duluth Harbor Basin, Northern Section within an imaginary line beginning at point 46°46′36.12″ N. 092°06′06.99″ W., running southeast to 46°46′32.75″ N. 092°06′01.74″ W., running northeast to 46°46′45.92″ N. 092°05′45.18″ W., running northwest to 46°46′49.47″ N. 092°05′49.35″ W. and finally running southwest back to the starting point. Entry into, transiting, or anchoring within the safety zone is prohibited unless authorized by the Captain of the Port Duluth or his designated on-scene representative. The Captain of the Port's designated on-scene representative may be contacted via VHF Channel 16.

This notice of enforcement is issued under authority of 33 CFR 165.943 and 5 U.S.C. 552 (a). In addition to this notice of enforcement in the Federal Register, the Coast Guard will provide the maritime community with advance notification of the enforcement of this safety zone via Broadcast Notice to Mariners.

Dated: June 24, 2016.
A.H. Moore, Jr.,
Commander, U.S. Coast Guard, Captain of the Port, Duluth.

[FR Doc. 2016-15502 Filed 6-29-16; 8:45 am]

BILLING CODE 9110-04-P